DEPARTMENT OF LABOR

Employment and Training Administration

[TA-W-51,708]

Bethlehem Steel Corporation, Corporate Headquarters, Bethlehem, PA; Notice of Termination of Investigation

Pursuant to section 221 of the Trade Act of 1974, an investigation was initiated on May 7, 2003, in response to a petition filed on behalf of workers at Bethlehem Steel Corporation, Corporate Headquarters, Bethlehem, Pennsylvania.

This petitioning group of workers is covered by an active certification issued on May 16, 2003 and which remains in effect (TA-W-51,241G). Consequently, further investigation in this case would serve no purpose, and the investigation has been terminated.

Signed in Washington, DC this 22nd day of May 2003.
Elliott S. Kushner,
Certifying Officer, Division of Trade Adjustment Assistance.

[FR Doc. 03-15465 Filed 6-18-03; 8:45 am]

BILLING CODE 4510-30-P